DEPARTMENT OF HOMELAND SECURITY

Federal Emergency Management Agency

[Docket ID FEMA-2019-0002; Internal Agency Docket No. FEMA-B-1920]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 29, 2019.

ADDRESSES: The Preliminary FIRM, and where applicable, the FIS report for each community are available for inspection at both the online location https://www.fema.gov/preliminary floodhazarddata and the respective Community Map Repository address listed in the tables below. Additionally, the current effective FIRM and FIS report for each community are accessible online through the FEMA Map Service Center at https://msc.fema.gov for comparison.

You may submit comments, identified by Docket No. FEMA-B-1920, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminary floodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
City and Borough of Juneau, Alaska
Project: 15-10-0411S Preliminary Dates: August 25, 2017 and November 30, 2018
City and Borough of Juneau | Marine View Building, 230 South Franklin Street, Juneau, AK 99801.
Bannock County, Idaho and Incorporated Areas
Project: 16-10-0563S Preliminary Date: June 29, 2018
City of Pocatello | City Hall, 911 North 7th Avenue, Pocatello, ID 83201.
Unincorporated Areas of Bannock County | Bannock County Planning and Development, 5500 South 5th Avenue, Pocatello, ID 83204.
Burt County, Nebraska and Incorporated Areas
Project: 16-07-2331S Preliminary Date: October 24, 2018
City of Lyons | City Office, 335 Main Street, Lyons, NE 68038.
City of Oakland | City Auditorium, 401 North Oakland Avenue, Oakland, NE 68045.
City of Tekamah | Tekamah Auditorium, 1315 K Street, Tekamah, NE 68061.
Omaha Tribe of Nebraska | Omaha Indian Tribe, 100 Main Street, Macy, NE 68039.
Unincorporated Areas of Burt County | Burt County Courthouse, 111 North 13th Street, Tekamah, NE 68061.
Village of Craig | Village Office, 196 North Main Street, Craig, NE 68019.
Village of Decatur | Village Office, 913 South Broadway, Decatur, NE 68020.
Village of Herman | Village Office, 504 Main Street, Herman, NE 68029.
Grays Harbor County, Washington and Incorporated Areas
Project: 13-10-0367S Preliminary Dates: August 31, 2018 and January 11, 2019
City of Elma | Elma City Hall, 202 West Main Street, Elma, WA 98541.
City of Montesano | City Hall, 112 North Main Street, Montesano, WA 98563.
City of Oakville | City Hall, 204 East Main Street, Oakville, WA 98568.
Confederated Tribes of Chehalis Reservation | Chehalis Tribal Center, 420 Howanut Road, Oakville, WA 98568.
Unincorporated Areas of Grays Harbor County | Grays Harbor Administration Building, 100 West Broadway, Suite 31, Montesano, WA 98563.

[FR Doc. 2019-08698 Filed 4-29-19; 8:45 am]

BILLING CODE 9110-12-P